DEPARTMENT OF THE INTERIOR

Bureau of Indian Affairs

Notice of Acceptance of Retrocession of Jurisdiction for the Tulalip Tribes, Washington; Correction

AGENCY: Bureau of Indian Affairs, Interior.

ACTION: Notice; correction.

SUMMARY: The Bureau of Indian Affairs published a document in the Federal Register of December 5, 2000 (65 FR 75948), concerning the Tulalip Tribes' request that the state of Washington retrocede partial criminal jurisdiction to the tribes by Resolution No. 96-0167 dated November 2, 1996. The document contained an incorrect date. This notice corrects the following date.

FOR FURTHER INFORMATION CONTACT: Peter Maybee, 202-208-5787.

Correction

In the Federal Register of December 5, 2000, in FR Doc. 00-30956, on page 75948, in the first column, line seven, change the date November 21, 2000 to November 21, 2001.

Dated: December 7, 2000.
Kevin Gover,
Assistant Secretary—Indian Affairs.

[FR Doc. 00-31698 Filed 12-12-00; 8:45 am]

BILLING CODE 4310-02-P